AGENCY FOR INTERNATIONAL DEVELOPMENT

Notice of Meeting

Pursuant to the Federal Advisory Committee Act, notice is hereby given of a meeting of the Advisory Committee on Voluntary Foreign Aid (ACVFA).

Date: Wednesday, February 21, 2007 (9 a.m. to 3 p.m.).

Location: National Press Club Ballroom, 529 14th Street, NW., Washington, DC 20045.

Please note that this is the anticipated agenda and is subject to change.

U.S. Foreign Assistance and the FY 08 Budget: USAID's Administrator Randall L. Tobias has been invited to speak on the U.S. foreign assistance program. Dirk Dijkerman, Chief Operating Officer, and James Painter, Senior Coordinator for Operational Management, in the Office of the Director of U.S. Foreign Assistance in the U.S. Department of State have been invited to provide an overview of the President's fiscal year 2008 foreign assistance budget.

Afghanistan: James Kunder, USAID's Acting Deputy Administrator has been invited to speak on USAID's programs in Afghanistan.

Global Development Alliance: Daniel Runde, Director of USAID's Global Development Alliance (GDA) initiative has been invited to provide an overview of the GDA since its establishment in 2001. A panel discussion will follow on lessons learned with representatives from private voluntary organizations and the private sector.

The meeting is free and open to the public. Persons wishing to attend the meeting can register online at http://www.usaid.gov/about_usaid/acvfa or contact Kristin Holland at * * * or 202-237-0090 extension 10 or Jocelyn Rowe at jrowe@usaid.gov or 202-712-4002.

Dated: January 30, 2007.
Jocelyn M. Rowe,
Executive Director, Advisory Committee on Voluntary Foreign Aid (ACVFA), U.S. Agency for International Development.

[FR Doc. E7-1764 Filed 2-2-07; 8:45 am]

BILLING CODE 6116-01-P